ENVIRONMENTAL PROTECTION AGENCY

[EPA-HQ-SFUND-2005-0008; FRL-9987-24-OEI]

Information Collection Request Submitted to OMB for Review and Approval; Comment Request; Emergency Planning and Release Notification Requirements Under Emergency Planning and Community Right-to-Know Act Sections 302, 303, and 304 (Renewal)

AGENCY: Environmental Protection Agency (EPA).

ACTION: Notice.

SUMMARY: The Environmental Protection Agency (EPA) has submitted an information collection request (ICR), Emergency Planning and Release Notification Requirements under Emergency Planning and Community Right-to-Know Act Sections 302, 303, and 304 (EPA ICR Number 1395.10, OMB Control Number 2050-0092), to the Office of Management and Budget (OMB) for review and approval in accordance with the Paperwork Reduction Act. This is a proposed extension of the ICR, which is currently approved through December 31, 2018. Public comments were previously requested via the Federal Register on July 18, 2018 during a 60-day comment period. This notice allows for an additional 30 days for public comments. A fuller description of the ICR is given below, including its estimated burden and cost to the public. An agency may not conduct or sponsor and a person is not required to respond to a collection of information unless it displays a currently valid OMB control number.

DATES: Comments must be submitted on or before January 22, 2019.

ADDRESSES: Submit your comments, referencing Docket ID No. EPA-HQ-SFUND-2005-0008, to (1) EPA online using www.regulations.gov (our preferred method), by email to superfund.docket@epa.gov or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Wendy Hoffman, Office of Emergency Management, Mail Code 5104A, Environmental Protection Agency, 1200 Pennsylvania Ave. NW, Washington, DC 20460; telephone number: (202) 564-8794; email address: hoffman.wendy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The authority for the emergency planning and emergency release notification requirements is sections 302, 303, and 304 of the Emergency Planning and Community Right-to-Know Act (EPCRA) 1986 (42 U.S.C. 11002, 11003, and 11004). EPCRA established broad emergency planning and facility reporting requirements. Section 302 requires facilities to notify their state emergency response commission (SERC) and the local emergency planning committee (LEPC) that the facility is subject to emergency planning. This activity was completed soon after the law was passed. Only new facilities that may become subject to these requirements must notify the SERC and the LEPC. Currently covered facilities are required to notify the LEPC of any changes that occur at the facility which would be relevant to emergency planning. Section 303 requires the LEPC to prepare local emergency response plans for their planning district using the information provided by facilities under section 302. The LEPC may request any information from facilities necessary to develop emergency response plans. Emergency response plans were developed within a few months after the law was passed. LEPCs are required to review and update the plan at least annually or more frequently as changes occur in the community. Section 304 requires facilities to report to SERCs and LEPCs releases exceeding the reportable quantities listed for each extremely hazardous substance (EHS) and for each hazardous substance defined under section 101(14) of the Comprehensive Environmental Response, Compensation, and Liability Act. This ICR also covers the notification and the written follow-up required under section 304. The implementing regulations are codified in 40 CFR part 355.

Form numbers: None.

Respondents/affected entities: Entities that have a threshold planning quantity of an extremely hazardous substance (EHS) listed in 40 CFR part 355, Appendix A and those that have a release of any of the EHSs or CERCLA hazardous substances above a reportable quantity. Entities more likely to be affected by this action may include chemical manufacturers, retailers, petroleum refineries, utilities, etc.

Respondent's obligation to respond: Mandatory under EPCRA sections 302, 303 and 304.

Estimated number of respondents: 108,556.

Frequency of response: EPCRA section 302 reporting is a one-time notification unless there are changes to the reported information; EPCRA section 304 notification is only when a release of an EHS or CERCLA hazardous substance occurs from a facility.

Total estimated burden: 259,456 hours (per year). Burden is defined at 5 CFR 1320.03(b).

Total estimated cost: $10,784,934 (per year), including $68,867 annual operations and maintenance costs. There are no capital costs associated with this ICR.

Changes in estimates: The number of facilities subject to section 302 is 95,000, which is the same as in the previous ICR. There is an increase of 4,500 hours in the total estimated respondent burden compared with the ICR currently approved by OMB. This increase is due to an adjustment to the estimate, which corrected for a math error in the previous ICR renewal.

Courtney Kerwin,
Director, Regulatory Support Division.

[FR Doc. 2018-27583 Filed 12-20-18; 8:45 am]

BILLING CODE 6560-50-P